DEPARTMENT OF HEALTH AND HUMAN SERVICES

National Institutes of Health

Proposed Collection; 60-Day Comment Request; Specimen Resource Locator (National Cancer Institute)

AGENCY: National Institutes of Health, HHS.

ACTION: Notice.

SUMMARY: In compliance with the requirement of the Paperwork Reduction Act of 1995 to provide opportunity for public comment on proposed data collection projects, the National Institutes of Health, National Cancer Institute (NCI) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Joanne Demchok, Program Director, Cancer Diagnosis Program, Division of Cancer Treatment and Diagnosis, 9609 Medical Center Drive, Rockville, Md 20892 or call non-toll-free number 240-276-5959 or Email your request, including your address to: peterjo@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Specimen Resource Locator (NCI), 0925-0703: Expiration Date 11/30/2020, REVISION, National Cancer Institute (NCI), National Institutes of Health (NIH).

Need and Use of Information Collection: The availability of specimens and associated data is critical to increase our knowledge of cancer biology, and to translate important research discoveries to clinical application. The development of molecular technologies in cancer patients, with defined molecular abnormalities, advances identification and development of clinically useful biomarkers and diagnostic assays that guide treatment.

The discovery and validation of cancer prevention markers require access, by researchers, to quality clinical biospecimens. In response, to this need, NCI's Cancer Diagnosis Program developed, and is expanding, a searchable database: Specimen Resource Locator (SRL) https://specimens.cancer.gov/tissue/default.htm. The SRL allows scientist in the research community and the NCI to locate specimens needed for their research. The SRL lists all NCI supported and non-NCI supported biospecimens repositories and their links. It is not NCI's intent to collect the biospecimens; rather the collections are descriptions of the available data that can act as a resource and be shared with researchers and scientists who are interested. This submission does not involve any analysis.

OMB approval is requested for 3 years. There are no costs to respondents other than their time. The total estimated annualized burden hours are 68.

Estimated Annualized Burden Hours
Form name | Type of respondent | Number of respondents | Number of responses per respondent | Average burden per response (in hours) | Total burden hours
Initial Request | State Government | 70 | 1 | 30/60 | 35
| Federal Government | 60 | 1 | 30/60 | 30
Annual Update | State Government | 20 | 1 | 5/60 | 2
| Federal Government | 10 | 1 | 5/60 | 1
Totals |  |  | 160 |  | 68

Dated: June 15, 2020.
Diane Kreinbrink,
Project Clearance Liaison, National Cancer Institute, National Institutes of Health.

[FR Doc. 2020-13139 Filed 6-17-20; 8:45 am]

BILLING CODE 4140-01-P